FEDERAL ELECTION COMMISSION

Sunshine Act Meetings

AGENCY: Federal Election Commission.

DATE AND TIME: Thursday, August 22, 2013 at 10:00 a.m..

PLACE: 999 E Street NW., Washington, DC (Ninth Floor).

STATUS: This meeting will be open to the public.

ITEMS TO BE DISCUSSED:

Correction and Approval of Minutes for July 25, 2013

Draft Advisory Opinion 2013-04: Democratic Governors Association and Jobs & Opportunity

Draft Advisory Opinion 2013-08: American Veterinary Medical Association

Draft Advisory Opinion 2013-09: Special Operations Speaks PAC and Robert L. Maness

Draft Advisory Opinion 2013-10: National Republican Senatorial Committee, National Republican Congressional Committee, Democratic Senatorial Campaign Committee, and Democratic Congressional Campaign Committee

Audit Division Recommendation Memorandum on the Arizona Republican Party (ARP) (A11-21)

Audit Division Recommendation Memorandum on the Mississippi Democratic Party PAC (MDP) (A11-10)

OGC Enforcement Manual

Management and Administrative Matters

Individuals who plan to attend and require special assistance, such as sign language interpretation or other reasonable accommodations, should contact Shawn Woodhead Werth, Secretary and Clerk, at (202) 694-1040, at least 72 hours prior to the meeting date.

Person to Contact for Information: Judith Ingram, Press Officer, Telephone: (202) 694-1220.

Shawn Woodhead Werth,
Secretary and Clerk of the Commission.

[FR Doc. 2013-20344 Filed 8-16-13; 11:15 am]

BILLING CODE 6715-01-P